DEPARTMENT OF TRANSPORTATION

Federal Motor Carrier Safety Administration

Availability of Grant Program Funds for Commercial Vehicle Information Systems and Networks Program

AGENCY: Federal Motor Carrier Safety Administration (FMCSA), DOT.

ACTION: Notice.

SUMMARY: FMCSA announces the availability of Commercial Vehicle Information Systems and Networks (CVISN) grant funding as authorized by Section 4126 of the Safe, Accountable, Flexible, Efficient Transportation Equity Act: A Legacy for Users (SAFETEA-LU). This is a discretionary grant program that provides funding for States to deploy, operate, and maintain elements of their CVISN program, including commercial vehicle, commercial driver, and carrier-specific information systems and networks. The agency in each State designated as the primary agency responsible for the development, implementation, and maintenance of the CVISN-related systems is eligible to apply for grant funding. To apply for funding, applicants must register with the grants.gov Web site (http://www.grants.gov/applicants/get_registered.jsp) and submit an application in accordance with instructions provided. Applications for grant funding must be submitted electronically to FMCSA through the grants.gov Web site.

Section 4126 of SAFETEA-LU distinguishes between two types of CVISN projects: Core and Expanded. To be eligible for funding of Core CVISN deployment project(s), a State must have its most current Core CVISN Program Plan and Top-Level Design approved by FMCSA and the proposed project(s) should be consistent with its approved Core CVISN Program Plan and Top-Level Design.

A State may also apply for funds to prepare an Expanded CVISN Program Plan and Top-Level Design if FMCSA acknowledged the staff as having completed Core CVISN deployment. In order to be eligible for funding of any Expanded CVISN deployment project(s), a State must have its most current Expanded CVISN Program Plan and Top-Level Design approved by FMCSA and any proposed Expanded CVISN project(s) should be consistent with its Expanded CVISN Program Plan and Top-Level Design.

DATES: FMCSA will initially consider funding for applications submitted by March 31, 2007 by qualified applicants. If additional funding remains available, applications submitted after March 31, 2007 will be considered on a case-by-case basis. A portion of the funds is available for allocation as limited by the Continuing Resolution (Pub. L. 109-383). The remainder of funds will be available when fiscal year 2007 appropriations legislation is passed and signed into law.

FOR FURTHER INFORMATION CONTACT: Visit grants.gov. Information on the grant, application process, and additional contact information is available at that Web site.

General information about the CVISN grant is available in The Catalog of Federal Domestic Assistance (CFDA) which can be found on the Internet at http://www.cfda.gov. The CFDA number for CVISN is 20.237.

You also may contact Mr. Quon Kwan, Federal Motor Carrier Safety Administration, Office of Research and Analysis, Division of Technology, e-mail: quon.kwan@dot.gov, telephone: 202-385-2389, 400 Virginia Avenue, SW., Suite 600, Washington, DC 20024. Office hours are from 8 a.m. to 4:30 p.m., e.t., Monday through Friday, except Federal holidays.

Issued on: January 31, 2007.
John H. Hill,
Administrator.

[FR Doc. E7-2055 Filed 2-7-07; 8:45 am]

BILLING CODE 4910-EX-P